DEPARTMENT OF STATE

22 CFR Part 51

[Public Notice: 9867]

RIN 1400-AE01

Passports: Service Passports

AGENCY: Department of State.

ACTION: Final rule.

SUMMARY: This rule finalizes the interim final rule from the Department of State that established a new service passport, which may be approved for certain non-personal services contractors who travel abroad in support of and pursuant to a contract with the U.S. government. The Department received no public comments in response to the rule.

DATES: Effective January 30, 2018.

FOR FURTHER INFORMATION CONTACT: Sitara Kedilaya, Attorney-Adviser, PassportRules@state.gov, (202) 485-6500.

SUPPLEMENTARY INFORMATION: On September 30, 2016, the Department published an interim final rule amending 22 CFR part 51, to create a “service passport” that would be used by non-personal services contractors to carry out critical security, maintenance and other functions on behalf of the U.S. government. As noted in the interim final rule, the Department estimates that this rulemaking will affect approximately 1,000 non-personal services contractors per year. Further information concerning the rationale for this rule can be found in the interim final rule.

The Department provided 60 days for the public to comment on this rule. This period expired on November 29, 2016. The Department received no public comments.

The Regulatory Findings included with the interim final rule are incorporated herein. This rule is not an E.O. 13771 regulatory action because it is not significant under E.O. 12866.

List of Subjects in 22 CFR Part 51

Administrative practice and procedure, Drug traffic control, Passports and visas, Reporting and recordkeeping requirements.

PART 51—PASSPORTS

Accordingly, the interim final rule amending 22 CFR part 51, which was published at 81 FR 67156 on September 30, 2016, is adopted as a final rule without change.

Carl C. Risch,
Assistant Secretary, Consular Affairs.

[FR Doc. 2018-01708 Filed 1-29-18; 8:45 am]

BILLING CODE 4710-06-P